DEPARTMENT OF THE INTERIOR

National Park Service

[NPS-WASO-NAGPRA-23598; PPWOCRADN0-PCU00RP14.R50000]

Notice of Inventory Completion: Tennessee Department of Environment and Conservation, Division of Archaeology, Nashville, TN

AGENCY: National Park Service, Interior.

ACTION: Notice.

SUMMARY: The Tennessee Department of Environment and Conservation, Division of Archaeology, has completed an inventory of human remains and associated funerary objects, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains and associated funerary objects should submit a written request to the Tennessee Department of Environment and Conservation, Division of Archaeology. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Tennessee Department of Environment and Conservation, Division of Archaeology, at the address in this notice by September 7, 2017.

ADDRESSES: Michael C. Moore, Tennessee Department of Environment and Conservation, Division of Archaeology, 1216 Foster Avenue, Cole Building 3, Nashville, TN 37243, (615) 687-4776, mike.c.moore@tn.gov.

SUPPLEMENTARY INFORMATION: Notice is here given in accordance with the Native American Graves Protection and Repatriation Act (NAGPRA), 25 U.S.C. 3003, of the completion of an inventory of human remains and associated funerary objects under the control of the Tennessee Department of Environment and Conservation, Division of Archaeology, Nashville, TN. The human remains and associated funerary objects were removed from Polk County, TN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Tennessee Department of Environment and Conservation, Division of Archaeology, professional staff in consultation with representatives of the Cherokee Nation of Oklahoma, Eastern Band of Cherokee Indians, and United Keetoowah Band of Cherokee Indians of Oklahoma.

History and Description of the Remains

From 1986 to 1987, human remains representing, at minimum, six individuals were removed from the Hiwassee Old Town site (40PK3) in Polk County, TN. The Tennessee Division of Archaeology (TDOA) discovered the human remains during construction of the State Division of Forestry, East Tennessee Nursery. The human remains represent one subadult approximately 9-10 years of age; one subadult of indeterminate age; and four individuals of indeterminate age or sex. No individuals were identified. The 46 associated funerary objects are 1 greenstone celt, 1 stone elbow pipe, 1 coiled brass hairplucker, 4 iron buckles, 2 gunflints, 1 metal razor, 1 metal awl, and 35 clay beads.

The associated funerary objects were transferred to the McClung Museum at the University of Tennessee-Knoxville (UT-Knoxville) for analysis during the late 1980s, but were returned to the TDOA in 2009. One associated funerary object noted in the original NAGPRA inventory, a small piece of lead, was not present when the associated funerary objects were returned to the TDOA. The McClung Museum does not know the location of this item and it is not included in this notice.

The Hiwassee Old Town site (40PK3) represents a multi-component Native American site located on the north bank of the Hiwassee River in Polk County, TN. Archeological investigations conducted from 1986 to 1987 by TDOA determined prehistoric and historic Native American deposits to be present, including deposits associated with the previously documented Hiwassee Old Town occupied by Overhill Cherokee during the 18th and early 19th centuries (Riggs et al. 1988). The associated funerary objects are consistent with previously identified historic period Native American artifacts, based upon the range and style of artifacts.

Determinations Made by the Tennessee Department of Environment and Conservation, Division of Archaeology

Officials of the Tennessee Department of Environment and Conservation, Division of Archaeology have determined that:

• Pursuant to 25 U.S.C. 3001(9), the human remains described in this notice represent the physical remains of six individuals of Native American ancestry.

• Pursuant to 25 U.S.C. 3001(3)(A), the 46 objects described in this notice are reasonably believed to have been placed with or near individual human remains at the time of death or later as part of the death rite or ceremony.

• Pursuant to 25 U.S.C. 3001(2), there is a relationship of shared group identity that can be reasonably traced between the Native American human remains and associated funerary objects and the Eastern Band of Cherokee Indians.

Additional Requestors and Disposition

Lineal descendants or representatives of any Indian Tribe or Native Hawaiian organization not identified in this notice that wish to request transfer of control of these human remains and associated funerary objects should submit a written request with information in support of the request to Michael C. Moore, Tennessee Department of Environment and Conservation, Division of Archaeology, 1216 Foster Avenue, Cole Building 3, Nashville, TN 37243, (615) 687-4776, mike.c.moore@tn.gov, by September 7, 2017. After that date, if no additional requestors have come forward, transfer of control of the human remains and associated funerary objects to the Eastern Band of Cherokee Indians may proceed.

The Tennessee Department of Environment and Conservation, Division of Archaeology is responsible for notifying the Eastern Band of Cherokee Indians, the Cherokee Nation of Oklahoma, and the United Keetoowah Band of Cherokee Indians of Oklahoma that this notice has been published.

Dated: June 20, 2017.
Melanie O'Brien,
Manager, National NAGPRA Program.

[FR Doc. 2017-16623 Filed 8-7-17; 8:45 am]

BILLING CODE 4312-52-P